FEDERAL COMMUNICATIONS COMMISSION

47 CFR Part 27

[GN Docket No. 18-122; DA 23-958; FR ID 179691]

Wireless Telecommunications Bureau Seeks Comment on the C-Band RPC's Final Claims Submission Deadline Proposal

AGENCY: Federal Communications Commission.

ACTION: Notification, request for comments.

SUMMARY: In this document, the Wireless Telecommunications Bureau (WTB or Bureau) of the Federal Communications Commission (Commission) seeks comment on the C-band Relocation Payment Clearinghouse's (RPC) proposal to set final claims submission deadlines as part of the ongoing transition of the 3.7 GHz band. WTB also seeks comment on any other steps that the Bureau should take pursuant to its delegated authority to facilitate the conclusion of the C-band transition reimbursement program and wind down of the RPC's operations in an efficient and timely manner and in keeping with its remit to prevent fraud, waste, and abuse, including proposals advanced in recent ex parte submissions by AT&T, Verizon, and SES.

DATES: Interested parties may file comments on or before November 8, 2023.

ADDRESSES: You may submit comments, identified by GN Docket No. 18-122, by any of the following methods:

• Electronic Filers: Comments may be filed electronically using the internet by accessing the ECFS: https://www.fcc.gov/ecfs/.

• Paper Filers: Parties who choose to file by paper must file an original and one copy of each filing.

Filings can be sent by commercial courier or by the U.S. Postal Service. All filings must be addressed to the Commission's Secretary, Office of the Secretary, Federal Communications Commission.

• Commercial deliveries (other than U.S. Postal Service Express Mail and Priority Mail) must be sent to 9050 Junction Drive, Annapolis Junction, MD 20701.

• U.S. Postal Service First-Class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

People with Disabilities. To request materials in accessible formats (braille, large print, electronic files, audio format) for people with disabilities, send an email to fcc504@fcc.gov or call the Consumer & Governmental Affairs Bureau at (202) 418-0530.

FOR FURTHER INFORMATION CONTACT: For additional information on this proceeding, contact Susan Mort of the Wireless Telecommunications Bureau, at (202) 418-2429 or Susan.Mort@fcc.gov.

SUPPLEMENTARY INFORMATION: This is a summary of the Commission's document (Public Notice), in GN Docket No. 18-122; DA 23-958, released on October 13, 2023. The full text of this document is available for public inspection online at https://docs.fcc.gov/public/attachments/DA-23-958A1.pdf.

With this Public Notice, WTB seeks comment on the RPC's proposal that the Bureau establish one or more final claims submission deadlines by which eligible incumbents would be required to submit any outstanding transition-related claims to the RPC for processing. Specifically, the RPC proposed the following final claims submission deadlines: February 5, 2024, for all reimbursement claims for costs incurred and paid by claimants as of December 31, 2023, including all lump sum election claims by incumbent earth station operators; and September 30, 2024, for all reimbursement claims for costs incurred and paid by claimants after December 31, 2023, with the exhortation that claims be submitted to the RPC on a rolling basis within 30 days of being incurred. The Bureau seeks comment on the RPC's final claims submission deadline request and the proposed deadlines, and on any other steps the Bureau can take pursuant to its delegated authority to facilitate the conclusion of the C-band transition reimbursement program and wind down the RPC's operations in an efficient and timely manner.

Federal Communications Commission.
Amy Brett,
Acting Chief of Staff, Wireless Telecommunications Bureau.

[FR Doc. 2023-23390 Filed 10-23-23; 8:45 am]

BILLING CODE 6712-01-P